DEPARTMENT OF THE TREASURY

Internal Revenue Service

26 CFR Parts 1 and 301

[REG-132529-17]

RIN 1545-BO13

Computation and Reporting of Reserves for Life Insurance Companies; Correction

AGENCY: Internal Revenue Service (IRS), Treasury.

ACTION: Notice of proposed rulemaking; correction.

SUMMARY: This document contains a correction to the notice of proposed rulemaking that was published in the Federal Register on Thursday, April 2, 2020. The proposed regulations in the notice of proposed rulemaking provide guidance on the computation of life insurance reserves and the change in basis of computing certain reserves of insurance companies.

DATES: Written or electronic comments and requests for a public hearing are still being accepted and must be received by June 1, 2020. This correction is applicable on and after April 2, 2020.

ADDRESSES: Commenters are strongly encouraged to submit public comments electronically. Submit electronic submissions via the Federal eRulemaking Portal at www.regulations.gov (indicate IRS and REG-132529-17) by following the online instructions for submitting comments. Once submitted to the Federal eRulemaking Portal, comments cannot be edited or withdrawn. The IRS expects to have limited personnel available to process public comments that are submitted on paper by mail. Until further notice, any comments submitted on paper will be considered to the extent practicable. The Department of the Treasury (Treasury Department) and the IRS will publish for public availability any comment submitted electronically, and to the extent practicable on paper, to its public docket.

Send paper submissions to: CC:PA:LPD:PR (REG-132529-17), Room 5203, Internal Revenue Service, P.O. Box 7604, Ben Franklin Station, Washington, DC 20044.

FOR FURTHER INFORMATION CONTACT: Dan Phillips, (202) 317-6995 (not a toll-free number).

SUPPLEMENTARY INFORMATION:

Background

The proposed regulations in the notice of proposed rulemaking, which is the subject of this correction, were issued primarily under section 807 of the Internal Revenue Code.

Need for Correction

As published, the notice of proposed rulemaking (REG-132529-17) contains an error that needs to be corrected.

Correction of Publication

Accordingly, the notice of proposed rulemaking (REG-132529-17) that is the subject of FR Doc. 2020-05701, published on April 2, 2020 (85 FR 18496), is corrected as follows:

On page 18504, in the third column, the second paragraph is deleted in its entirety.

Martin V. Franks,
Chief, Publications and Regulations Branch, Legal Processing Division, Associate Chief Counsel (Procedure and Administration).

[FR Doc. 2020-07562 Filed 4-15-20; 8:45 am]

BILLING CODE 4830-01-P